DEPARTMENT OF THE TREASURY

Office of Foreign Assets Control

31 CFR Part 575

Exclusion of Certain Transactions With Respect to Certain Iraqi Property From the Scope of a General License

AGENCY: Office of Foreign Assets Control, Treasury.

ACTION: Policy statement.

SUMMARY: The Treasury Department's Office of Foreign Assets Control (“OFAC”) has excluded certain transactions from the scope of the general license found in 31 CFR 575.533(a). This exclusion prohibits any attachment, judgment, decree, lien, execution, garnishment, or other judicial process with respect to certain property consisting of historic and modern books, documents, parchment scrolls, and other items pertaining to the Iraqi Jewish community that have been brought to the United States for restoration and temporary exhibition.

DATES: Effective August 28, 2003.

FOR FURTHER INFORMATION CONTACT: Office of Foreign Assets Control, Department of the Treasury, Washington, DC 20220, tel.: 202/622-2500.

SUPPLEMENTARY INFORMATION: On August 2, 1990, the President issued Executive Order 12722, declaring a national emergency with respect to Iraq. This order was issued under the authority of, inter alia, the International Emergency Economic Powers Act (50 U.S.C. 1701 et seq.) (“IEEPA”), the National Emergencies Act (50 U.S.C. 1601 et seq.), and section 301 of title 3 of the U.S. Code and imposed economic sanctions, including a complete trade embargo, with respect to Iraq. In keeping with United Nations Security Council Resolution 661 of August 6, 1990, and under the United Nations Participation Act (22 U.S.C. 287c), the President also issued Executive Order 12724 of August 9, 1990, which imposed additional restrictions. The Iraqi Sanctions Regulations, 31 CFR part 575 (the “Regulations”), implement Executive Orders 12722 and 12724 and are administered by the Treasury Department's Office of Foreign Assets Control (“OFAC”).

On May 22, 2003, the United Nations Security Council adopted Resolution 1483, which substantially lifted the multilateral economic sanctions with respect to Iraq. On May 23, 2003, OFAC issued a general license that reflected Resolution 1483 by authorizing most transactions that had been prohibited by the Regulations. This general license was published in the Federal Register on June 27, 2003, as new § 575.533 of the Regulations (68 FR 38188-38190).

Section 575.502 of the Regulations provides that the Director of OFAC reserves the right to exclude any person, property, or transaction from the operation of any license, or from the privileges therein conferred, or to restrict the applicability thereof with respect to particular persons, property, transactions, or classes thereof. On August 28, 2003, the Director of OFAC exercised this right to exclude certain transactions from the scope of the general license contained in § 575.533 of the Regulations. The text of the exclusion is reproduced below.

Exclusion From License

Under the authority of section 575.502 of the Iraqi Sanctions Regulations, 31 CFR part 575 (the “Regulations”), except to the extent provided in section 203(b)(3) of IEEPA (50 U.S.C. 1702(b)(3)), any attachment, judgment, decree, lien, execution, garnishment, or other judicial process with respect to the following property is hereby prohibited and excluded from the transactions authorized in paragraph (a) of § 575.533 of the Regulations:

Historic and modern books, documents, parchment scrolls, and other items discovered in early May 2003 in the basement of the Mukhabahrat in Baghdad, most of which pertain to the Jewish community, which will be imported into the United States for temporary exhibition, including restoration necessary thereto, by the National Archives and Records Administration (NARA).

Dated: September 4, 2003.
R. Richard Newcomb,
Director, Office of Foreign Assets Control.
Approved: September 12, 2003.
Juan C. Zarate,
Deputy Assistant Secretary (Terrorist Financing and Financial Crimes), Department of the Treasury.

[FR Doc. 03-26738 Filed 10-20-03; 2:24 pm]

BILLING CODE 4810-25-P